ENVIRONMENTAL PROTECTION AGENCY

[ER-FRL-8996-1]

Environmental Impacts Statements; Notice of Availability

Responsible Agency: Office of Federal Activities, General Information (202) 564-1399 or http://www.epa.gov/compliance/nepa/

Weekly receipt of Environmental Impact Statements

Filed 03/14/2011 Through 03/18/2011

Pursuant to 40 CFR 1506.9.

Notice: In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110084, Draft EIS, USFS, OR, Galena Project, To Implement Several Resource Management Activities, Blue Mountain Ranger District Malheur National Forest, Town of John Day, Grant County, OR, Comment Period Ends: 05/09/2011, Contact: Robert Robertson 541-575-3061.

EIS No. 20110085, Draft EIS, FHWA, CA, State Route 180 Westside Expressway Route Adoption Study, To Improve Mobility East and West through the Center of Fresno County and the San Joaquin Valley, Fresno County, CA, Comment Period Ends: 05/09/2011, Contact: G. William “Trais” Norris, III 559-243-8175.

EIS No. 20110086, Draft EIS, USACE, LA, New Orleans To Venice (NOV), Federal Hurricane Protection Levee. Restoring, Armoring and Accelerating the Completion of the Existing NOV, Plaquemines Parish, LA, Comment Period Ends: 05/09/2011, Contact: Christopher Koeppel 601-631-5410.

EIS No. 20110087, Draft EIS, DOE, CA, Topaz Solar Farm Project, Issuing a Loan Guarantee to Royal Bank of Scotland for Construction and Startup, San Luis Obispo County, CA, Comment Period Ends: 05/09/2011, Contact: Angela Colamaria 202-287-5387.

EIS No. 20110088, Final EIS, NRC, GA, Vogtle Electric Generating Plant Units 3 and 4, Construction and Operation, Application for Combined Licenses (COLs), NUREG-1947, Waynesbora, GA, Review Period Ends: 04/25/2011, Contact: Mallaecia Sutton 301-415-0673.

Dated: March 22, 2011.
Robert W. Hargrove,
Director, NEPA Compliance Division, Office of Federal Activities.

[FR Doc. 2011-7115 Filed 3-24-11; 8:45 am]

BILLING CODE 6560-50-P